PEACE CORPS

Information Collection Request; Submission for OMB Review

AGENCY: Peace Corps.

ACTION: 60-Day notice and request for comments.

SUMMARY: The Peace Corps will be submitting the following information collection request to the Office of Management and Budget (OMB) for review and approval. The purpose of this notice is to allow 60 days for public comment in the Federal Register preceding submission to OMB. We are conducting this process in accordance with the Paperwork Reduction Act of 1995 (44 USC Chapter 35).

DATES: Submit comments on or before April 29, 2014.

ADDRESSES: Comments should be addressed to Denora Miller, FOIA/Privacy Act Officer. Denora Miller can be contacted by telephone at 202-692-1236 or email at pcfr@peacecorps.gov. Email comments must be made in text and not in attachments.

FOR FURTHER INFORMATION CONTACT: Denora Miller at Peace Corps address above.

SUPPLEMENTARY INFORMATION: The Peace Corps Questionnaire for Peace Corps Volunteer Background Investigation Form is used to conduct a formal background check. The information obtained on the form is provided to the Office of Personnel Management or other contract investigator to obtain the necessary information as to an applicant's legal suitability for service.

OMB Control Number: 0420-0001.

Title: Peace Corps Questionnaire for Peace Corps Volunteer Background Investigation Form

Type of Review: Revision of a currently approved collection

Affected Public: Individuals

Respondents' Obligation To Reply: Voluntary.

Burden to the Public:

a. Number of Average Applicants: 20,000.

b. Number of Applicants who submit NAC form: 20,000.

c. Frequency of response: One time.

d. Completion time: 15 minutes.

e. Annual burden hours: 5,000.

General Description Of Collection: The Peace Corps Questionnaire for Peace Corps Volunteer Background Investigation form is used to screen Peace Corps applicants for legal and/or criminal history and other involvement with the judicial system. The information obtained on the form is provided to the Office of Personnel Management or other contract investigator to obtain the necessary information as to an applicant's legal suitability for service. All applicants who complete the initial Peace Corps Application Form are then sent a “legal kit” to complete, which includes this form among others related to the applicants' suitability and a postage-paid return envelope. This form is only requested to be filled once and currently is only available in carbon-hard copy format.

Request for Comment: Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice issued in Washington, DC, on: February 25, 2014.
Denora Miller,
FOIA/Privacy Act Officer, Management.

[FR Doc. 2014-04486 Filed 2-27-14; 8:45 am]

BILLING CODE 6051-01-P